DEPARTMENT OF COMMERCE

Foreign-Trade Zones Board

[Docket 53-2009]

Foreign-Trade Zone 163—Ponce, Puerto Rico Application for Expansion

An application has been submitted to the Foreign-Trade Zones (FTZ) Board (the Board) by CODEZOL, C.D., grantee of FTZ 163, requesting authority to expand its zone in the Ponce, Puerto Rico area, adjacent to the Ponce Customs and Border Protection port of entry. The application was submitted pursuant to the provisions of the Foreign-Trade Zones Act, as amended (19 U.S.C. 81a-81u), and the regulations of the Board (15 CFR Part 400). It was formally filed on November 23, 2009.

FTZ 163 was approved on October 18, 1989 (Board Order 443, 54 FR 46097, 11/01/89) and expanded on April 18, 2000 (Board Order 1091, 65 FR 24676, 4/27/00), on June 9, 2005 (Board Order 1397, 70 FR 36117, 6/22/05), on July 26, 2006 (Board Order 1467, 71 FR 44996, 8/8/06), on November 9, 2006 (Board Order 1487, 71 FR 67098, 11/20/06), and on June 26, 2009 (Board Order 1631, 74 FR 34306, 7/15/09).

The zone project currently consists of the following sites in Puerto Rico: Site 1 (106 acres)—within the Port of Ponce area, including a parcel (11 acres) located at 3309 Avenida Santiago de Los Caballeros, Ponce; Site 2 (191 acres, 5 parcels)—Peerless Oil & Chemicals, Inc., Petroleum Terminal Facilities located at Rt. 127, Km. 17.1, Penuelas; Site 3 (13 acres, 2 parcels)—Rio Piedras Distribution Center located within the central portion of the Quebrada Arena Industrial Park, and the Hato Rey Distribution Center located within the northeastern portion of the Tres Monjitas Industrial Park, San Juan; Site 4 (14 acres)—warehouse facility located at State Road No. 3, Km. 1401, Guayama; Site 5 (256 acres, 34 parcels)—located at Mercedita Industrial Park at the intersection of Route PR-9 and Las Americas Highway, Ponce; Site 6 (86 acres)—Coto Laurel Industrial Park located at the southwest corner of the intersection of Highways PR-56 and PR-52, Ponce; Site 7 (17 acres)—warehouse facility located at State Road No. 1, Km 21.1, Guaynabo; Site 8 (5 acres)—warehouse facility located at 42 Salmon Street, Ponce; Site 9 (6 acres)—warehouse facility located on PR Highway 2, at Km.165.2, Hormigueros; and, Site 10 (6 acres)—warehouse facility at Centro de Distribucion, Playa de Ponce, Building 7, Avenida de los Caballeros, Ponce.

The applicant is now requesting authority to expand Site 1 to include additional acreage and to include 1 additional site in the Ponce area: expand Site 1 (new total—270 acres) which will include 3 additional parcels (within the Port of the Americas complex)—Percon Industrial parcel (132 acres), ParkPhase III parcel (12 acres) and Bayland parcel (20 acres) and to include the following site: Proposed Site 11 (52 acres)—ProCaribe Industrial Park, Road 385, Km. 5.4, Penuelas. The sites will provide public warehousing and distribution services to area businesses. No specific manufacturing authority is being requested at this time. Such requests would be made to the Board on a case-by-case basis.

In accordance with the Board's regulations, Kathleen Boyce of the FTZ Staff is designated examiner to evaluate and analyze the facts and information presented in the application and case record and to report findings and recommendations to the Board.

Public comment is invited from interested parties. Submissions (original and 3 copies) shall be addressed to the Board's Executive Secretary at the address below. The closing period for their receipt is February 1, 2010. Rebuttal comments in response to material submitted during the foregoing period may be submitted during the subsequent 15-day period (to February 16, 2010).

A copy of the application and accompanying exhibits will be available for public inspection at the Office of the Executive Secretary, Foreign-Trade Zones Board, Room 2111, U.S. Department of Commerce, 1401 Constitution Avenue, NW., Washington, DC 20230-0002, and in the “Reading Room” section of the Board's Web site, which is accessible via www.trade.gov.ftz.

For further information, contact Kathleen Boyce at 202-482-1346 or Kathleen.Boyce@trade.gov.

Andrew McGilvray,
Executive Secretary.

[FR Doc. E9-28777 Filed 11-30-09; 8:45 am]

BILLING CODE 3510-DS-P